OFFICE OF PERSONNEL MANAGEMENT

Proposed Collection: Comment Request for Revision of a Currently Approved Information Collection; SF 87 and 87A

AGENCY: Office of Personnel Management.

ACTION: Notice.

SUMMARY: In accordance with the Paperwork Reduction Act of 1995 (Pub. L. 104-13) and 5 CFR 1320.5 (a)(1)(iv), this notice announces that OPM intends to submit to the Office of Management and Budget (OMB) a request for revision of a currently approved information collection for Standard Form 87 and 87A, Fingerprint Charts. Standard Form 87 and 87A, Fingerprint Charts, are completed by applicants for positions throughout the Federal Government. SF-87 is used by OPM and SF 87A is used by agencies having a special agreement with OPM and the FBI. The information is used to conduct the checks of the FBI fingerprint files that are required by Executive Order 10450, Security Requirements for Government Employment, issued April 27, 1953, or required or authorized under other authorities.

Comments are particularly invited on the following:

—Whether this collection of information is necessary for the proper performance of functions of the Office of Personnel Management and whether it will have practical utility;

—Whether our estimate of the public burden of this collection of information is accurate, and based on valid assumptions and methodology; and

—Ways in which we can minimize the burden of collection of information on those who are to respond, through the use of appropriate technological collection techniques or other forms of information technology.

Approximately 250,000 SF 87 and SF 87A's are completed annually. We estimate it takes approximately 5 minutes to complete the form. The annual burden is estimated at 20,833 hours.

For copies of this proposal, contact Mary Beth Smith-Toomey on (202) 606-2150, FAX 202-418-3251 or email to mbtoomey@opm.gov.

DATES: Comments on this proposal should be received on or before June 22, 2001.

ADDRESSES: Send or deliver written comments to: Richard A. Ferris, Associate Director, Investigations Service, U.S. Office of Personnel Management, 1900 E. Street NW., Room 5416 Washington, DC 20415-4000.

FOR FURTHER INFORMATION CONTACT: Rasheedah I. Ahmad, Program Analyst, Investigations Service, (202) 606-7983 or FAX (202) 606-2390.

Office of Personnel Management.
Steven R. Cohen,
Acting Director.

[FR Doc. 01-9967 Filed 4-20-01; 8:45 am]

BILLING CODE 6325-40-P